DEPARTMENT OF THE TREASURY

Agency Information Collection Activities; Proposed Collection; Comment Request; Coronavirus State and Local Fiscal Recovery Funds

AGENCY: Departmental Offices, Department of the Treasury.

ACTION: Notice of information collection; request for comment.

SUMMARY: The U.S. Department of the Treasury, as part of its continuing effort to reduce paperwork and respondent burden, invites the general public and other federal agencies to comment on the proposed information collections listed below, in accordance with the Paperwork Reduction Act of 1995.

DATES: Written comments must be received on or before July 30, 2024.

ADDRESSES: Send comments regarding the burden estimate, or any other aspect of the information collection, including suggestions for reducing the burden, to Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Title: Coronavirus State and Local Fiscal Recovery Funds.

OMB Control Number: 1505-0271.

Type of Review: Revision of a currently approved collection.

Description: Sections 602 and 603 of the Social Security Act (the “Act”), as added by section 9901 of the American Rescue Plan Act of 2021, Public Law 117-2 (Mar. 11, 2021) authorized the Coronavirus State Fiscal Recovery Fund (“CSFRF”) and Coronavirus Local Fiscal Recovery Fund (“CLFRF”) respectively (referred to as the “Coronavirus State and Local Fiscal Recovery Funds” or “SLFRF”). SLFRF provided $350 billion in total funding for the U.S. Department of the Treasury (“Treasury”) to make payments to States (defined to include the District of Columbia), U.S. Territories (defined to include Puerto Rico, U.S. Virgin Islands, Guam, Northern Mariana Islands, and American Samoa), Tribes, Metropolitan cities, Counties, Consolidated Governments, and (through States) Non-entitlement units of local government (collectively the “eligible entities”) to (1) respond to the COVID-19 public health emergency or its negative economic impacts, including providing assistance to households, small business, nonprofits, and impacted industries, such as tourism, travel, and hospitality; (2) respond to workers performing essential work during the COVID-19 pandemic by providing premium pay to eligible workers of the State, U.S. Territory, Tribal government, Metropolitan city, County, or Non-entitlement units of local government who are performing essential work or by providing grants to eligible employers that have eligible workers; (3) provide of government services, to the extent COVID-19 caused a reduction of revenues collected in the most recent full fiscal year of the State, U.S. Territory, Tribal government, Metropolitan city, County, or Non-entitlement units of local government; or (4) make necessary investments in water, sewer, or broadband infrastructure; (5) provide emergency relief from natural disasters or the negative economic impacts of natural disasters including temporary emergency housing, food assistance, financial assistance for lost wages, and other immediate needs; (6) use funds for projects eligible under 26 programs administered by the Department of Transportation (“Surface Transportation projects”); or (7) use funds for projects eligible under Title I of the Housing and Community Development Act of 1974 (“Title I projects”).

As implemented by Treasury, Title I projects require recipients to submit to Treasury a National Environmental Review Act (NEPA) Environmental Certification form under certain circumstances. This form can be found on the Treasury website.

To administer the SLFRF program, a Project and Expenditure (P&E) Report is required to be submitted by recipients quarterly or annually based on their “reporting tier” provided in the Compliance and Reporting Guidance. The first quarterly reports were due January 31, 2022 for certain recipients. The first annual reports were due April 30, 2022. The P&E Report has been updated periodically to accommodate new reporting needs corresponding to updated program guidance offered through interim final rules (IFRs) and frequently asked questions (FAQs) and will be continuously updated throughout the program's period of performance, ending December 31, 2026. Existing and anticipated future updates are reflected in the estimated time per response for reporting.

Final program reports will be due in 2027 accordance with the Uniform Administrative Requirements, Cost Principles, and Audit Requirements for Federal Awards at 2 CFR part 200, including the requirements of 2 CFR 200.344. and real and personal property disposition procedures, as well as in accordance with and any additional guidance issued by Treasury.

Form: Award and Payment Forms and associated forms; Annual Recovery Performance Plan and Distribution Templates; Annual and Quarterly Project and Expenditure Reports, National Environmental Protection Act (NEPA) Review Certification Form for Title I projects, disposition forms SF-428 and SF-429, and the Impact Story submission form.

Affected Public: State, Territorial, Tribal, and certain Local Governments.

Estimated Number of Respondents: 30,000.

Frequency of Response: On occasion.

Estimated Total Number of Annual Responses: 82,874.

Estimated Time per Response: 15 minutes to 1 hour for Award and Payment forms, up to 100 hours for Annual Recovery Plan Performance Reports, up to 15 hours for annual and quarterly Project and Expenditure Reports, up to 2 hours for Title I NEPA Environmental Reviews, and up to 1 hour for optional Impact Story submissions, in addition to time spent on previously collected items.

Estimated Total Annual Burden Hours: 628,494.

Request for Comments: Comments submitted in response to this notice will be summarized and included in the request for Office of Management and Budget approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Spencer W. Clark,
Treasury PRA Clearance Officer.

[FR Doc. 2024-11911 Filed 5-30-24; 8:45 am]

BILLING CODE 4810-AK-P